U.S.-CHINA ECONOMIC AND SECURITY REVIEW COMMISSION

Notice of Open Public Hearing

AGENCY: U.S.-China Economic and Security Review Commission.

ACTION: Notice of open public hearing—April 13, 2011 Washington, DC.

SUMMARY: Notice is hereby given of the following hearing of the U.S.-China Economic and Security Review Commission.

Name: William A. Reinsch, Chairman of the U.S.-China Economic and Security Review Commission.

The Commission is mandated by Congress to investigate, assess, and report to Congress annually on “the national security implications of the economic relationship between the United States and the People's Republic of China.”

Pursuant to this mandate, the Commission will hold a public hearing in Washington, DC on April 13, 2011, to address “China's Current and Emerging Foreign Policy Priorities.”

Background: This is the fifth public hearing the Commission will hold during its 2011 report cycle to collect input from leading academic, industry, and government experts on national security implications of the U.S. bilateral trade and economic relationship with China. The April 13 hearing will examine emerging issues and new interest groups in Chinese foreign policy, as well as China's relationships with select countries of concern to the United States. The April 13 hearing will be co-chaired by Commissioners Carolyn Bartholomew and Peter Brookes.

Any interested party may file a written statement by April 13, 2011, by mailing to the contact below. A portion of each panel will include a question and answer period between the Commissioners and the witnesses.

Transcripts of past Commission public hearings may be obtained from the USCC Web Site http://www.uscc.gov.

Date and Time: Wednesday, April 13, 2011, 8:40 a.m. to 3:30 p.m. Eastern Standard Time. A detailed agenda for the hearing will be posted to the Commission's Web Site at http://www.uscc.gov as soon as available.

ADDRESSES: The hearing will be held on Capitol Hill in Room 216 of the Hart Senate Office Building, located at Constitution Avenue and 2nd Street, NE., in Washington, DC 20002. Public seating is limited to about 50 people on a first come, first served basis. Advance reservations are not required.

FOR FURTHER INFORMATION CONTACT: Any member of the public seeking further information concerning the hearing should contact Michael Danis, Executive Director for the U.S.-China Economic and Security Review Commission, 444 North Capitol Street, NW., Suite 602, Washington DC 20001; phone: 202-624-1407, or via e-mail at contact@uscc.gov.

Authority: Congress created the U.S.-China Economic and Security Review Commission in 2000 in the National Defense Authorization Act (Pub. L. 106-398), as amended by Division P of the Consolidated Appropriations Resolution, 2003 (Pub. L. 108-7), as amended by Public Law 109-108 (November 22, 2005).

Dated: March 31, 2011.
Michael Danis,
Executive Director, U.S.-China Economic and Security Review Commission.

[FR Doc. 2011-8078 Filed 4-5-11; 8:45 am]

BILLING CODE 1137-00-P